FEDERAL COMMUNICATIONS COMMISSION

47 CFR Part 90

[DA 09-621; WT Docket No. 04-344; FCC 08-208]

Maritime Communications

AGENCY: Final rule; correction.

SUMMARY: The Federal Communications Commission published in the Federal Register of January 29, 2009, a document in the Automatic Identification Systems (AIS) proceeding, WT Docket No. 04-344, which included a Final Rules Appendix that reflected the amendments adopted of certain rules. This document corrects the amendment of one of those sections as set forth below.

DATES: May 19, 2009.

FOR FURTHER INFORMATION CONTACT: Jeffrey Tobias, Federal Communications Commission, Wireless Telecommunications Bureau, 445 12th St. SW., Washington, DC 20554 at (202) 418-0620.

SUPPLEMENTARY INFORMATION: The Federal Communications Commission published a document in the Federal Register of January 29, 2009 (74 FR 5117) regarding the adoption of changes to rules relating to AIS, an advanced marine vessel tracking and navigation technology that can significantly enhance our Nation's homeland security as well as maritime safety. The document amended a number of FCC rules governing the public safety pool. This document, released on March 18, 2009; DA 09-621, corrects a certain rule in the document published in the Federal Register of January 29, 2009 (74 FR 5117). This document does not change any of the other rule amendments set forth in the document published in the Federal Register of January 29, 2009 (74 FR 5117).

List of Subjects in 47 CFR 90

Communications equipment, radio.

Marlene H. Dortch,
Secretary, Federal Communications Commission.

Rules Changes

For the reasons discussed in the preamble, the Federal Communications Commission corrects 47 CFR part 90 as follows:

1. The authority citation for part 90 continues to read as follows:

PART 90—PRIVATE LAND MOBILE RADIO SERVICES

Authority: Secs. 4(i), 11, 303(g), 303(r) and 332(c)(7) of the Communications Act of 1934, as amended, 47 U.S.C. 154(i), 161, 303(r), and 332(c)(7).

2. In § 90.20, revise the Table C heading in paragraph (g)(3)(iv) to read as follows:

§ 90.20 Public Safety Pool.

* * * * *

(g) * * *

(3) * * *

(iv) * * *

Table C—Required Separation in Kilometers (Miles) of Base Station From Public Coast Stations

* * * * *

[FR Doc. E9-11640 Filed 5-18-09; 8:45 am]

BILLING CODE 6712-01-P